SOCIAL SECURITY ADMINISTRATION

Agency Information Collection Activities: Comment Request

The Social Security Administration (SSA) publishes a list of information collection packages requiring clearance by the Office of Management and Budget (OMB) in compliance with Public Law (Pub. L.) 104-13, the Paperwork Reduction Act of 1995, effective October 1, 1995. This notice includes revisions to existing OMB-approved information collections.

SSA is soliciting comments on the accuracy of the agency's burden estimate; the need for the information; its practical utility; ways to enhance its quality, utility, and clarity; and ways to minimize the burden on respondents, including the use of automated collection techniques or other forms of information technology. Mail, email, or fax your comments and recommendations on the information collection(s) to the OMB Desk Officer and the SSA Reports Clearance Officer to the addresses or fax numbers listed below.

(OMB),

Office of Management and Budget,

Attn: Desk Officer for SSA,

Fax: 202-395-6974,

e-mail address: OIRA Submission@omb.eop.gov.

(SSA),

Social Security Administration, DCBFM,

Attn: Reports Clearance Officer,

1332 Annex Building,

6401 Security Blvd.,

Baltimore, MD 21235,

Fax: 410-965-6400,

e-mail address: OPLM.RCO@ssa.gov.

SSA has submitted the information collections listed below to OMB for clearance. Your comments on the information collections would be most useful if received by OMB and SSA within 30 days from the date of this publication. You can obtain a copy of the OMB clearance packages by calling the SSA Reports Clearance Officer at 410-965-3758, or by writing to the above listed address.

Credit Card Payment Form—0960-0648. SSA uses the information collected on Form SSA-1414 to process credit card payments for debts owed by former employees and vendors. SSA also uses the information collected on Form SSA-1414 to process advance payments for reimbursable agreements and to process credit card payments for Freedom of Information Act (FOIA) requests that require payment. The respondents are former employees and vendors who have outstanding debts to the agency, entities who have reimbursable agreements with SSA, and individuals who request information through FOIA.

Type of Request: Extension of an OMB-approved information collection.

Number of Respondents: 100.

Frequency of Response: 1.

Average Burden per Response: 5 minutes.

Estimated Annual Burden: 8 hours.

Dated: January 22, 2009.
John Biles,
Reports Clearance Officer, Social Security Administration.

[FR Doc. E9-1897 Filed 1-29-09; 8:45 am]

BILLING CODE 4191-02-P